DEPARTMENT OF LABOR

[TA-W-90,166; TA-W-90,166A]

Employment and Training Administration

Amended Certification Regarding Eligibility To Apply for Worker Adjustment Assistance

TA-W-90,166, Dresser, Inc. also known as Dresser Masoneilan General Electric Measurement and Control. A Sub-Division of General Electric—Oil & Gas, Avon, Massachusetts

TA-W-90,166A, Kelly Services, Need, OP Amp, Softek, Aerotek, APN Software Solutions, and Global Integrated Resources, Inc. Working on-site at Dresser, Inc. also known as Dresser Masoneilan General Electric Measurement and Control. A Sub-Division of General Electric—Oil & Gas, Avon, Massachusetts

In accordance with Section 223 of the Trade Act of 1974, as amended (“Act”), 19 U.S.C. 2273, the Department of Labor issued a Certification of Eligibility to Apply for Worker Adjustment Assistance on November 13, 2015 applicable to workers of Dresser, Inc., also known as Dresser Masoneilan, General Electric Measurement and Control division, a sub-division of General Electric—Oil & Gas, including on-site leased workers from Kelly Services, NEED, OP Amp, Softek, Aerotek, and APN Software Solutions, Avon, Massachusetts. The Department's notice of determination was published in the Federal Register on January 11, 2016 (81 FR 1227).

At the request of the authorized representative of Global Integrated Resources, Inc., the Department reviewed the certification for workers of the subject firm. The workers are engaged in activities related to the production of industrial control valves for oil, gas, severe service, nuclear applications, and parts and components.

The company reports that workers leased from Global Integrated Resources, Inc. were employed on-site at Dresser, Inc., also known as Dresser Masoneilan, General Electric Measurement and Control Division, a sub-division of General Electric—Oil & Gas, Avon, Massachusetts. The Department has determined that these workers were sufficiently under the control of the subject firm to be considered leased workers.

Based on these findings, the Department is amending this certification to include workers leased from Global Integrated Resources, Inc., working on-site at Dresser, Inc., also known as Dresser Masoneilan, General Electric Measurement and Control Division, a sub-division of General Electric—Oil & Gas, Avon, Massachusetts.

The amended notice applicable to TA-W-90,166 and TA-W-90,166A is hereby issued as follows:

All workers of Dresser, Inc., also known as Dresser Masoneilan, General Electric Measurement and Control division, a sub-division of General Electric—Oil & Gas, Avon, Massachusetts, who became totally or partially separated from employment on or after May 9, 2015 through November 13, 2017, and all workers in the group threatened with total or partial separation from employment on the date of certification through two years from the date of certification, are eligible to apply for adjustment assistance under Chapter 2 of Title II of the Trade Act of 1974, as amended;

AND,

All workers of Kelly Services, NEED, Op Amp, Softek, Aerotek, APN Software Solutions, and Global Integrated Resources, Inc. working on-site at Dresser, Inc., also known as Dresser Masoneilan, General Electric Measurement and Control division, a sub-division of General Electric—Oil & Gas, Avon, Massachusetts (TA-W-90,166A), who became totally or partially separated from employment on or after January 1, 2014 through November 13, 2017, and all workers in the group threatened with total or partial separation from employment on the date of certification through two years from the date of certification, are eligible to apply for adjustment assistance under Chapter 2 of Title II of the Trade Act of 1974, as amended.

Signed in Washington, DC, this 31st day of May 2016.
Hope D. Kinglock,
Certifying Officer, Office of Trade Adjustment Assistance.

[FR Doc. 2016-15251 Filed 6-27-16; 8:45 am]

BILLING CODE P